DEPARTMENT OF HOUSING AND URBAN DEVELOPMENT

[Docket No. FR-5613-N-11]

Privacy Act of 1974; Notice of a New System of Records, Enterprise Wide Operations Data Store

AGENCY: Office of the Chief Information Officer.

ACTION: Notification of New Privacy Act System of Records, Enterprise Wide Operations Data Store.

SUMMARY: Pursuant to the provision of the Privacy Act of 1974, as amended (5 U.S.C. 552a), the U.S. Department of Housing and Urban Development (HUD) is providing notice of its intent to establish a new system of records, the Enterprise Wide Operations Data Store (EWODS) for one of its Departmental Offices, the Government Mortgage National Associate (Ginnie Mae), Office of Mortgage-Back Securities (MBS), which focuses on guaranteeing Ginnie Mae investors a timely payment of principal and interest on MBS backed by federally insured or guaranteed loans. The EWODS is to serve as a central back-end repository to manage various reporting, pooling, and risk management activities associated with the mortgage-backed securities process. The EWODS production activities will typically maintain data submitted to Ginnie Mae by Issuers who issue securities backed by insured or guaranteed mortgage loans, mainly those administered for HUD's Federal Housing Administration or the U.S. Department of Veterans Affairs. The EWODS system is expected to standardize the mortgage-backed securities activities and improve significantly the efficiency of Ginnie Mae's production activities, pooling, reporting and risk management efforts.

DATES: Effective Date: This proposal shall become effective, without further notice, January 4, 2013, unless comments are received during or before this period which would result in a contrary determination.

Comments Due Date: January 4, 2013.

ADDRESSES: Interested persons are invited to submit comments regarding this notice to the Rules Docket Clerk, Office of General Counsel, U.S. Department of Housing and Urban Development, 451 Seventh Street SW., Room 10276, Washington, DC 20410-3000. Communications should refer to the above docket number and title. FAX comments are not acceptable. A copy of each communication submitted will be available for public inspection and copying between 8:00 a.m. and 5:00 p.m. weekdays at the above address.

FOR FURTHER INFORMATION CONTACT: Inquiries pertaining to Privacy Act records, contact Donna Robinson-Staton, Chief Privacy Officer, telephone number (202) 402-8073, 451 Seventh Street SW., Washington, DC 20410 (Attention: Capitol View Building, 4th Floor) [The above telephone number is not a toll free number]. A telecommunications device for hearing- and speech-impaired persons (TTY) is available by calling the Federal Information Relay Service's toll-free telephone number (800) 877-8339.

SUPPLEMENTARY INFORMATION: Pursuant to the Privacy Act of 1974 (5 U.S.C. 552a), as amended, notice is given that HUD proposes to establish a new system of records. The system report was submitted to the Office of Management and Budget (OMB), the Senate Committee on Homeland Security and Governmental Affairs, and the House Committee on Government Reform pursuant to Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: November 7, 2012.
Kevin R. Cooke,
Deputy Chief Information Officer.

GINNIE MAE/TN.01

System name:

Enterprise Wide Operational Data Store (EWODS)

System Location:

Bank of New York Mellon (Contractor site), New York, New York. Access is authorized via application and approval process for rights and privileges administered by Ginnie Mae's Security Officer.

Categories of Individuals Covered By the System:

Categories of individuals covered by this system include individual borrower data associated with government insured or guaranteed mortgage loans that are the underlying collateral for Ginnie Mae-guaranteed mortgage-backed securities (MBS); issuers and document custodians involved in the pooling, certification, and monthly reporting process; and individuals who currently or previously held physical certificates of Ginnie Mae-guaranteed mortgage-backed securities.

Categories of Records in the System:

Information collected and nature collected are defined in the following four categories:

1. Loan origination and servicing data: Borrower/co-borrower name, Social Security Number, gender, date of birth, and income and other financial data (such as credit score) of the borrower and any co-borrower; property address, mortgage amount, origination date, funding date, payments made, maximum claim amount, payment option selected by the borrower, remaining amount of principal that may be drawn by the borrower, reasons for delinquency, unique identifiers assigned by insuring agencies, such as the Federal Housing Administration (FHA), U.S. Department of Veterans Affairs (VA), U.S. Department of Agriculture Rural Development (RD) formerly the Rural Housing Service and Farmers Home Administration, or HUD Office of Public and Indian Housing (PIH), the loan number assigned by the issuer, the loan number assigned by the Mortgage Electronic Registrations System, and Ginnie Mae loan number.

2. Physical security holders (investors) data: Social Security Number/Tax ID, name, mailing address, phone number, or email address of those holding the security.

3. Issuer and document custodian data: Name, title, and phone number of the issuer and document custodian employees involved in the pooling, certification, and monthly reporting process.

4. Security Level Data: Ginnie Mae pool number, Committee on Uniform Securities Identification Procedures (CUSIP) number, pool issuance characteristics, maturity date, security rate, and pool balance amount.

Authority for Maintenance of the System:

Section 306(g) of the National Housing Act, 12 U.S.C. 1721(g). The collection of Social Security Numbers are authorized pursuant to the Internal Revenue Service Code 26 U.S.C. 6109 and 26 C.F.R. 1.6049-4 and 1.6050H-2.

Purpose(s):

Ginnie Mae uses the information collected in EWODS to administer and carry out its functions as guarantor of securities under Section 306(g) of the National Housing Act, 12 U.S.C. 1721(g). The primary purpose of this system of records is to serve as a central back-end repository to house loan origination and servicing, security holder, issuer, document custodian, and security-level data associated with government insured and guaranteed mortgage loans that are underlying collateral for Ginnie Mae-guaranteed mortgage-backed securities. The system maintains data submitted to Ginnie Mae by issuers who issue securities backed by insured or guaranteed mortgage loans, mainly those administered for HUD's Federal Housing Administration or the U.S. Department of Veterans Affairs. The data housed in the system is necessary to support the pooling process by which eligible issuers create Ginnie Mae-guaranteed MBS. The system also captures security-level data that is created for the purposes of disclosure, and security holder information that is used to ensure timely payment of a pro rata share of the principal and interest on the underlying mortgage loans in a security, net of servicing and guaranty fees, to MBS investors. If Ginnie Mae defaults and extinguishes an issuer, then one of Ginnie Mae's functions as guarantor of securities will be to begin servicing the mortgage loans. Ginnie Mae must collect borrower SSNs so that it may, if it extinguishes an issuer and begins to service the mortgage loans, comply with IRS reporting requirements, including the requirement to provide the IRS and borrowers with information returns regarding interest received on which Ginnie Mae must identify the borrower SSNs.

Routine Uses of Records Maintained in the System, Including Categories of Users and the Purposes of Such Uses:

In addition to those disclosures generally permitted under 5 U.S.C. 552a(b) of the Privacy Act (Accordingly, discretionary disclosures that may apply to EWODS ¹), other routine uses are as follows:

¹ http://portal.hud.gov/hudportal/documents/huddoc?id=append1.pdf.

(a) To the public for the purpose of achieving a fair and open market in Ginnie Mae-guaranteed single and multiclass securities by making information available to investors that should lead to greater investor confidence and more accurate pricing on these securities that could decrease the cost of individual borrowing. In all cases, the public will access on Ginnie Mae's Web site a public use file that will be maintained for such purposes and will only contain [de-identified] data that is structured to protect borrower and co-borrower confidentiality where identities may be discerned. The authority for this routine use is Section 306(g) of the National Housing Act, 5 U.S.C. 552a and the SORN when published to establish the routine use.

(b) To other Federal agencies to ascertain if the loan is insured or guaranteed by a Federal agency under an eligible insuring or guaranteeing authority. The authority for this routine use is Section 306(g) of the National Housing Act, 5 U.S.C. 552a and the SORN when published to establish the routine use.

(c) To the Internal Revenue Service and to state and local governments—for reporting payments for interest. The authority is Section 306(g) of the National Housing Act, 26 U.S.C. 6109, 26 CFR 1.6049-4, 5 U.S.C. 552a, and the SORN when published to establish the routine use.

Policies and Practices for Storing, Retrieving, Accessing, Retaining, and Disposing of Records in the System:

Storage:

Electronic files are stored on servers and back-up files are stored on tapes. Servers are stored in a secured server room and at an offsite secured facility for disaster contingency. Hard copy data submissions are imaged by a third-party vendor and stored securely at the contractor's office or at a secured offsite document storage facility.

Retrievability:

For loan origination and servicing data, information will be retrieved by borrower/co-borrower name, Social Security Number, property address, Ginnie Mae loan number, MERS loan number, loan number assigned by the issuer, or unique identifiers assigned by insuring agencies. For physical security holders (investors) data, information can be retrieved by Social Security Number/Tax ID, name, address, phone number, or email address. For loan issuers and document custodians, information can be retrieved by name and phone number. For security-level data, information can be retrieved by Ginnie Mae pool number of CUSIP.

Safeguards:

Electronic records are maintained in a secured computer network behind a firewall. Access to records is limited to authorized personnel. All information that is stored on EWODS is accessed according to user rights and privileges that are authenticated by the access manager for the system. Paper-based records are kept in a secure location at contractor's site with limited access to authorized personnel.

Retention and Disposal:

In accordance with HUD Records Disposition Schedule 2225.6, Appendix 64. Records are retained for at least 7 years after pool maturity or when all claims arising under the pool have been satisfied, whichever is later. After which paper records are shredded or burned, and/or media records are disposed of pursuant to Federal media sanitization requirements.

System Manager(s) and Address:

Ginnie Mae, Office of Securities Operations, U.S. Department of Housing and Urban Development, 550 12th Street SW., 3rd Floor, Washington, DC 20024.

Record Access and Notification Procedures:

The Department's rules for providing access to records to the individual concerned appear in 24 CFR part 16. Since the Borrowers and Co-borrowers information associated with loan originations in EWODS is collected and submitted to Ginnie Mae by issuers responsible for the loan data, individual borrowers and co-borrowers seeking to determine whether this system of records contains information about them, or those seeking access to such loan records, should address inquiries to or contact the appropriate mortgagee identified on their loan payment statements. Ginnie Mae does not have the ability to modify these types of records within EWODS. Any other written requests must provide verification of your identity by providing two proofs of official identification. Your verification of identity must include your original signature and must be notarized.

For physical security holders (investors) data, written requests must include full name, Social Security Number/Tax ID, mailing address, and phone number of the requestor.

For loan issuers, issuer proxy, and guarantor's data, written request must include name, title, mailing address, and phone number of the requestor.

All requests should be directed to Ginnie Mae, Office of Securities Operations, U.S. Department of Housing and Urban Development, 550 12th Street SW., 3rd Floor, Washington, DC 20024. Attention: Privacy Officer.

Contesting Record Procedures:

The procedures for requesting amendment or correction of records appear in 24 CFR part 16. If additional information is needed, contact:

(i) In relation to contesting contents of records, the Departmental Privacy Officer, U.S. Department of Housing and Urban Development, 451 Seventh Street SW., Room 2256, Washington, DC 20410; and

(ii) In relation to appeals of initial denials, HUD, Departmental Privacy Appeals Officer, Office of General Counsel, U.S. Department of Housing and Urban Development, 451 Seventh Street SW., Washington, DC 20410.

Record Source Categories:

For loan origination data, records are established using information received from issuers of Ginnie Mae-guaranteed mortgage-backed securities via system interface or via hard-copy form. For physical security holders (investors) data, records were established from information received by lenders creating the security, via hard copy forms. Physical securities are still held by investors but are no longer issued by Ginnie Mae. For loan issuers and issuer proxy data, records are established using information from the initial approval process, via hard copy application forms.

Systems Exempted from Certain Provisions of the Act:

None.

[FR Doc. 2012-29356 Filed 12-4-12; 8:45 am]

BILLING CODE 4210-67-P